NATIONAL AERONAUTICS AND SPACE ADMINISTRATION

[Notice (18-080)]

Human Exploration and Operations Research Advisory Committee; Meeting

AGENCY: National Aeronautics and Space Administration.

ACTION: Notice of meeting.

SUMMARY: In accordance with the Federal Advisory Committee Act, as amended, the National Aeronautics and Space Administration (NASA) announces a meeting of the Human Exploration and Operations Research Advisory Committee.

DATED: November 16, 2018, 9:00 a.m. to 5:00 p.m., Local Time.

ADDRESSES: NASA Headquarters, Room 7H41, 300 E Street SW, Washington, DC 20546.

FOR FURTHER INFORMATION CONTACT: Dr. Bradley Carpenter, Designated Federal Officer, Human Exploration and Operations Mission Directorate, NASA Headquarters, Washington, DC 20546, (202) 358-0826, or bcarpenter@nasa.gov.

SUPPLEMENTARY INFORMATION: The meeting will be open to the public up to the capacity of the room. This meeting is also available telephonically and by WebEx. Any interested person may dial the USA toll free conference call number 1-844-467-6272 or toll number 1-720-259-6462, participant passcode: 535959, followed by the # sign, to participate in this meeting by telephone. The WebEx link is https://nasa.webex.com, the meeting number is 996 592 635, and the password is Exploration@2018.

The agenda for the meeting includes the following topics:

—NASA Space Life and Physical Sciences Research and Applications Status

—Center for the Advancement of Science in Space (CASIS) Status

—Commercial Space Research Opportunities

—Gateway Research Opportunities

—International Space Station (ISS) and Low Earth Orbit (LEO) Commercialization

Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Dr. Bradley Carpenter via email at bcarpenter@nasa.gov or by fax at (202) 358-2886. U.S. citizens and Permanent Residents (green card holders) are requested to submit their name and affiliation no less than 3 working days prior to the meeting to Dr. Carpenter. It is imperative that the meeting be held on these dates to accommodate the scheduling priorities of the key participants.

Patricia Rausch,
Advisory Committee Management Officer, National Aeronautics and Space Administration.

[FR Doc. 2018-22800 Filed 10-18-18; 8:45 am]

BILLING CODE 7510-13-P